DEPARTMENT OF COMMERCE

Foreign-Trade Zones Board

[B-10-2024]

Foreign-Trade Zone (FTZ) 183, Notification of Proposed Production Activity; Flextronics America, LLC; (Radio Frequency (RF) Communication Device Testers), Austin, Texas

Flextronics America, LLC submitted a notification of proposed production activity to the FTZ Board (the Board) for its facility in Austin, Texas within Subzone 183C. The notification conforming to the requirements of the Board's regulations (15 CFR 400.22) was received on March 7, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product(s) and material(s)/component(s) would be added to the production authority that the Board previously approved for the operation, as reflected on the Board's website.

The proposed finished product is a modular RF communication device tester (duty-free).

The proposed foreign-status materials and components include: rubber seals; rubber bumpers; steel bolts; steel nuts; copper washers; copper cotters and cotter pins; copper screws and bolts; aluminum p-clamps; steel brackets; flat planel display monitors; indicator panels incorporating liquid crystal devices (LCDs); tantalum capacitors; thermistors; flexible printed circuit boards; slide switches; coaxial cable connectors; rack and panel cable connectors; mounted piezoelectric crystal oscillators; dynamic read-write random access (DRAM) integrated circuits; amplifier integrated circuits; modular RF communication device testers; printed circuit assemblies of modular RF communication device testers; and, chassis assemblies of modular RF communication device testers (plastic, steel, and aluminum) (duty rate ranges from duty-free to 3%).

Public comment is invited from interested parties. Submissions shall be addressed to the Board's Executive Secretary and sent to: ftz@trade.gov. The closing period for their receipt is April 22, 2024.

A copy of the notification will be available for public inspection in the “Online FTZ Information System” section of the Board's website.

For further information, contact Kolade Osho at Kolade.Osho@trade.gov.

Dated: March 7, 2024.
Elizabeth Whiteman,
Executive Secretary.

[FR Doc. 2024-05264 Filed 3-12-24; 8:45 am]

BILLING CODE 3510-DS-P